RAILROAD RETIREMENT BOARD

Proposed Data Collection(s) Available for Public Comment and Recommendations

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collections are necessary for the proper performance of the functions of the agency, including whether the information has practical utility; (b) the accuracy of the RRB's estimate of the burden for the collection of the information; (c) ways to enhance the quality, utility, and clarity of the information to be collected; and (d) ways to minimize the burden related to the collection of information on respondents, including the use of automated collection techniques or other forms of information technology.

1. Title and Purpose of Information Collection

Application for Employee Annuity Under the Railroad Retirement Act; OMB 3220-0002. Section 2 of the Railroad Retirement Act (RRA) provides for payments of age and service, disability, and supplemental annuities to qualified employees. An annuity cannot be paid until the employee stops working for a railroad employer. In addition, the age and service employee must relinquish any rights held to such jobs. A disabled employee does not need to relinquish employee rights until attaining Full Retirement Age, or if earlier, their spouse files for a spouse annuity. Benefits become payable after the employee meets certain other requirements, which depend on the type of annuity payable. The requirements for obtaining the annuities are prescribed in 20 CFR 216, and 220.

The RRB currently uses the electronic AA-1cert, Application Summary and Certification process and the following forms to collect the information needed for determining entitlement to and the amount of, an employee retirement annuity: Form AA-1, Application for Employee Annuity Under the Railroad Retirement Act, Form AA-1d, Application for Determination of Employee Disability, and Form G-204, Verification of Workers Compensation/Public Disability Benefit Information.

The AA-1cert process obtains information from an applicant for either an age and service, or disability annuity by means of an interview with an RRB field-office representative. It obtains information about an applicant's marital history, work history, military service, benefits from other governmental agencies and railroad pensions. During the interview, the field-office representative enters the information obtained into an on-line information system. Upon completion of the interview, the applicant receives Form AA-1cert, Application Summary and Certification, which summarizes the information that was provided by/or verified by the applicant, for review and signature. The RRB also uses a manual version, RRB Form AA-1, in instances where the RRB representative is unable to contact the applicant in-person or by telephone, i.e., the applicant lives in another country.

Form AA-1d, Application for Determination of Employee Disability, is completed by an employee who is filing for a disability annuity under the RRA, or a disability freeze under the Social Security Act for early Medicare based on a disability. Form G-204, Verification of Workers Compensation/Public Disability Benefit Information, is used to obtain and verify information concerning worker's compensation or public disability benefits that are or will be paid by a public agency to a disabled railroad employee.

The RRB estimates the burden for the collection as follows:

Estimated Burden
Form # | Estimated annual responses | Estimated completion time (per response) | Estimated annual burden (Hours)
AA-1cert (interview) | 14,000 | 30 | 7,000
AA-1 manual (without assistance) | 100 | 62 | 103
AA-1d (manual without assistance) | 5 | 60 | 5
AA-1d (manual) (interview) | 3,700 | 35 | 2,158
G-204 | 20 | 15 | 5
Total | 17,825 |  | 9,271

The RRB proposes non-burden impacting editorial changes intended to provide clarification to Form AA-1(cert). Non-burden impacting editorial changes intended to provide clarification and specificity to currently existing responses as well as the deletion of several items that are no longer needed are proposed to Form AA-1. No changes are proposed to Form(s) AA-1d and G-204.

All of the forms require completion to obtain a benefit. One response is requested of each respondent.

2. Title and Purpose of Information Collection

Voluntary Customer Surveys in Accordance with E.O. 12862; OMB 3220-0192

In accordance with Executive Order 12862, the Railroad Retirement Board (RRB) conducts a number of customer surveys designed to determine the kinds and quality of services our beneficiaries, claimants, employers and members of the public want and expect, as well as their satisfaction with existing RRB services. The information collected is used by RRB management to monitor customer satisfaction by determining to what extent services are satisfactory and where and to what extent services can be improved. The surveys are limited to data collections that solicit strictly voluntary opinions, and do not collect information which is required or regulated. The information collection, which was first approved by the Office of Management and Budget (OMB) in 1997, provides the RRB with a generic clearance authority. This generic authority allows the RRB to submit a variety of new or revised customer survey instruments (needed to timely implement customer monitoring activities) to the Office of Management and Budget (OMB) for expedited review and approval.

The average burden per response for customer satisfaction activities is estimated to range from 2 minutes for a Web-site questionnaire to 2 hours for participation in a focus group. The RRB estimates an annual burden of 1,750 annual respondents totaling 717 hours for the generic customer survey clearance.

Additional Information or Comments: To request more information or to obtain a copy of the information collection justification, forms, and/or supporting material, please call the RRB Clearance Officer at (312) 751-3363 or send an e-mail request to Charles.Mierzwa@RRB.GOV. Comments regarding the information collection should be addressed to Patricia A. Henaghan, Railroad Retirement Board, 844 North Rush Street, Chicago, Illinois 60611-2092 or send an e-mail to Patricia.Henaghan@RRB.GOV. Written comments should be received within 60 days of this notice.

Charles Mierzwa,
Clearance Officer.

[FR Doc. 2010-1713 Filed 1-27-10; 8:45 am]

BILLING CODE 7905-01-P